DEPARTMENT OF TRANSPORTATION

Federal Railroad Administration

Environmental Impact Statement for the Northeast Corridor Between Washington, DC, New York, NY, and Boston, MA

AGENCY: Federal Railroad Administration (FRA), DOT.

ACTION: Notice of intent to prepare an environmental impact statement.

SUMMARY: FRA is issuing this Notice of Intent (Notice) to advise the public of the preparation of a Tier 1 Environmental Impact Statement (EIS) to evaluate potential passenger rail improvements between Washington, DC, New York City, and Boston, MA. FRA is leading the planning and environmental evaluation of the Northeast Corridor (NEC), an effort known as NEC FUTURE, in close coordination with the involved states, Northeast Corridor Infrastructure and Operations Advisory Commission (NEC Commission), Amtrak and other stakeholders. The purpose of the NEC FUTURE program is to define current and future markets for improved rail service and capacity on the NEC, develop an integrated passenger rail transportation solution to incrementally meet those needs, and create a regional planning framework to engage stakeholders throughout the region in the development of the program.

NEC FUTURE is being advanced consistent with the federal High-Speed Intercity Passenger Rail (HSIPR) program and includes the development of a Passenger Rail Corridor Investment Plan (PRCIP). A PRCIP provides the data necessary to support an FRA decision to fund and implement major investments in a passenger rail corridor. A PRCIP is comprised of two components: A Tier 1 EIS and a Service Development Plan (SDP). The Tier 1 EIS will be developed in accordance with the National Environmental Policy Act of 1969 (NEPA), 42 U.S.C. 4321 and the Council on Environmental Quality (CEQ) regulations, 40 CFR part 1500 et seq., and will address documentation on a broad corridor level. The SDP articulates the overall scope, alternatives, approach and business case for proposed service and improvements.

As part of the Tier 1 EIS, FRA will evaluate various passenger rail alternatives: A No Action Alternative, consisting of already planned improvements to the corridor, and Build Alternatives consisting of a full array of passenger rail alternatives which could range from operational and service enhancements to new physical improvements. FRA will consider the type, location and need for ancillary facilities for each alternative. The primary passenger rail route is the existing NEC passenger rail spine and its connecting corridors; however, in some areas, FRA may consider alternatives off of the existing NEC.

FRA is issuing this Notice to alert the public and agencies about the preparation of the Tier 1 EIS and associated SDP. To ensure that all significant issues are identified and considered, all interested parties are invited to comment on the proposed scope of environmental review, project purpose and need, alternatives to be considered, environmental effects to be considered and evaluated, and methodologies to be used for evaluating effects.

DATES: Submit comments by Friday, September 14, 2012. See the NEC FUTURE Web site (www.necfuture.com) for information on the scoping meeting dates.

ADDRESSES: Interested parties are encouraged to comment on-line at the NEC FUTURE Web site (www.necfuture.com), via email at info@necfuture.com, or in person at the scoping meetings. For Further Information or Special Assistance Contact: Rebecca Reyes-Alicea, USDOT, Federal Railroad Administration, Office of Railroad Policy & Development, 1200 New Jersey Avenue SE., Washington, DC 20590; by email at info@necfuture.com, or; through the NEC FUTURE Web site (www.necfuture.com).

SUPPLEMENTARY INFORMATION: FRA is preparing a Tier 1 EIS and SDP for the NEC FUTURE program. Together the EIS and SDP comprise a PRCIP that will define a comprehensive and integrated passenger rail network in the Northeast region, looking at a range of service types and infrastructure needs, including plans for public investment in projects that contribute towards efficient service and increased capacity for intercity and high-speed passenger rail and freight and commuter rail service. The PRCIP will provide the economic, financial, transportation and environmental analyses necessary to support an investment in improved rail service as a core component of a more integrated, efficient, safer, and higher-capacity Northeast regional transportation network.

The FRA will use a tiered environmental review process for complying with NEPA, as per the CEQ regulations, 40 CFR 1508.28, and in accordance with FRA's Procedures for Considering Environmental Impacts, 64 FR 28454 (FRA Environmental Procedures). The Tier 1 EIS will also address the requirements of Section 106 of the National Historic Preservation Act, 36 CFR Part 800, Section 4(f) of the U.S. Department of Transportation Act of 1966, 49 U.S.C. 303, and other applicable Federal and state laws and regulations. The outcome of the Tier 1 EIS will be to identify markets to be served, service(s), general alignment and station locations.

The NEC FUTURE program is intended to develop a rail transportation investment program to support the Northeast region's economic competitiveness and growth potential with energy-efficient and sustainable transportation services. For purposes of defining and analyzing transportation alternatives for NEC FUTURE, the study area has been broadly defined to encompass the region served by the NEC, plus those areas that can be reached from the NEC directly by train or via a single transfer to connecting corridors (e.g., the Empire Corridor in New York). The study area may be refined as the NEC FUTURE program progresses and off-corridor alternatives are identified.

Purpose and Need

The Northeast region is served by an extensive intermodal passenger and freight transportation system of highways, airports, ports, intercity, commuter and freight rail, and public transit systems. However, that transportation system lacks sufficient capacity or redundancy to support local and inter-regional mobility needs, resulting in major congestion and delays. Many components of the system are in a state of disrepair or, worse, have reached the point of obsolescence.

The need for the project is founded in the importance of mobility to the continued economic vitality of the Northeast region, coupled with projected population, economic and travel demand growth. Without investment, the limitations of the region's transportation network will constrain the growth, competitiveness and economic development of the region. The focus of NEC FUTURE is the rail network, an important component of the transportation network, and its role in providing and improving regional mobility.

Alternatives To Be Considered

The Tier 1 EIS will evaluate preliminary alternatives including a No Action Alternative and various Build Alternatives. The No Action Alternative will serve as a baseline for comparison of all alternatives. The No Action Alternative will draw upon State Transportation Improvement Programs and existing intercity passenger, commuter and freight rail plans as well as planned highway and air network improvements. The Tier 1 EIS will develop and evaluate a range of reasonable Build Alternatives. The Build Alternatives will be developed at a corridor level and will address travel markets, services, operations, general alignments and station locations. Build Alternatives could include physical improvements to the NEC spine to increase capacity, enhance safety, modernize the infrastructure, improve reliability and reduce trip time. Other alternatives could also be service- or operation-related that provide rail service to new markets or change existing patterns of service. In addition, there may be Build Alternatives off the existing NEC spine or its connecting corridors.

Possible Effects

FRA will evaluate direct, indirect and cumulative changes to the social, economic, and physical environment, including land use and socioeconomic conditions, ecological resources, water resources, cultural resources, hazardous contamination, transportation, air quality, noise and vibration at a level commensurate with a Tier 1 EIS. Analysis will be consistent with NEPA, CEQ regulations, Section 106 of the National Historic Preservation Act, the Endangered Species Act, Clean Air Act, Clean Water Act, FRA Environmental Procedures, applicable state environmental regulations, and Section 4(f) of the Department of Transportation Act of 1966, along with other applicable Federal and State regulations.

Scoping Process

The FRA is inviting comments and suggestions from all interested parties regarding the scope of the Tier 1 EIS to ensure that all uses are addressed related to this proposal and that any significant impacts are identified. Please direct comments or questions concerning the proposed action and the Tier 1 EIS to the FRA at the above address. FRA will send letters describing the proposed action and soliciting comments to the appropriate Federal, State, and local agencies, Native American tribes and to private organizations that might have previously expressed or that are known to have an interest in this proposal.

FRA is leading the outreach activities with agency and public meetings occurring in Maryland, Delaware, Pennsylvania, New Jersey, New York, Connecticut, Rhode Island, Massachusetts and the District of Columbia. The meetings and other public involvement initiatives, including newsletters and outreach, will be held throughout the course of this study. Dates, times and locations for the scoping meetings and other opportunities for public participation will be announced on the NEC FUTURE Web site (www.necfuture.com) and through mailings, notices, advertisements and press releases. In addition, the scoping meeting presentation will be available on the NEC FUTURE Web site along with a scoping package that can also be obtained upon request by contacting Rebecca Reyes-Alicea at the mailing address above or electronically at info@necfuture.com.

Comments will be accepted on the scoping of the EIS in meetings, through the NEC FUTURE Web site (www.necfuture.com) and by submitting written comments to Rebecca Reyes-Alicea at the address above. The formal comment period for scoping will be open from the date of this Notice until Friday, September 14, 2012.

Issued in Washington, DC, on June 18, 2012.
John Tunna,
Director of the Office of Research and Development, Federal Railroad Administration.

[FR Doc. 2012-15241 Filed 6-21-12; 8:45 am]

BILLING CODE 4910-06-P